ENVIRONMENTAL PROTECTION AGENCY

[ER-FRL-6673-5]

Environmental Impacts Statements; Notice of Availability

Responsible Agency: Office of Federal Activities, General Information (202) 564-7167 or http://www.epa.gov/compliance/nepa/.

Weekly receipt of Environmental Impact Statements

Filed 3/13/2006 through 3/17/2006 Pursuant to 40 CFR 1506.9.

EIS No. 20060083, Draft EIS, AFS, AZ, Jacob Ryan Vegetation Management Project, Implementation, Kaibab National Forest, North Kaibab Ranger District, Coconino County, AZ, Comment Period Ends: 05/08/2006, Contact: Jonathan M. Beck 928-643-8143.

This document is available on the Internet at: http://www.fs.fed.us/r3/kai/projects/jacob_ryan/deis/index.html.

EIS No. 20060084, Draft EIS, DOA, CA, Commercial Park Stock Permit Reissuance for the Sierra National Forest and Trail Management Plan for the Dinkey Lakes Wilderness, Application Reissuance Special-Use-Permit, Mariposa, Madera and Fresno Counties, CA, Comment Period Ends: 05/15/2006, Contact: Kim Sorini-Wilson 559-855-5355, Ext. 3328.

EIS No. 20060085, Draft EIS, NRS, MO, East Locust Creek Watershed Revised Plan, Installation of Multiple-Purpose Reservoir, Flood Prevention and Watershed Protection, Sullivan and Putnam Counties, MO, Comment Period Ends: 05/08/2006, Contact: Sue Teson 573-876-0912.

EIS No. 20060086, Draft EIS, BLM, WY, Pit 14 Coal Lease-by-Application Project, Black Butte Coal Mine, Surface Mining Operations, Federal Coal Lease Application WYW160394, Sweetwater County, WY, Comment Period Ends: 05/22/2006, Contact: Teri Deakins 307-352-0211.

EIS No. 20060087, Final EIS, AFS, IL, Shawnee National Forest Trails Designation Project, Phase 1, Designation, Construction and Maintenance for Trail System within Four Watershed: Eagle Creek, Big Grand Pierre Creek, Lusk Creek and Upper Bay Creek, Hidden Springs Ranger District, Gallatin, Hardin, Johnson, Pope and Saline Counties, IL, Wait Period Ends: 04/24/2006, Contact: Matthew Lechner 618-253-7114.

This document is available on the Internet at: http://www.fs.fed.us/r9/forests/shawnee/projects/projects/eis/2005/trails/final/trails-FEIS.pdf.

EIS No. 20060088, Draft EIS, FTA, CO, Denver Union Station (DUS) Project, Transportation Improvement, Multimodal Transportation Center for the Metro Denver Region, Funding and NPDES Permit, City and County Denver, CO, Comment Period Ends: 05/08/2006, Contact: David Beckhouse 720-963-3306.

EIS No. 20060089, Draft Supplement, AFS, ID, West Gold Creek Project, Updated Information, Forest Management Activities Plan, Implementation, Idaho Panhandle National Forests, Sandpoints Ranger District, Bonner County, ID, Comment Period Ends: 05/08/2006, Contact: A.J. Helgenberg 208-265-6643.

This document is available on the Internet at: http://www.fs.fed.us/ipnf/eco/manage/nepa/sptnepa/wgold/wg_dseis_ document.pdf.

EIS No. 20060090, Draft EIS, AFS, WI, Fishbone Project Area, Vegetation and Road Management, Implementation, Washburn Ranger District, Chequamegon-Nicolet National Forest, Bayfield County, WI, Comment Period Ends: 05/08/2006, Contact: Cristi Corey-Luse 715-373-2667 Ext. 235.

EIS No. 20060091, Draft EIS, AFS, CA, Phoenix Project Area, Treat Poor Forest Health, High Fire Hazard Condition, Develop a Network of Defensible Fuel Profile Zones (DFPZs), and Restore Aspen Stand, Sierraville Ranger District, Tahoe National Forest, Sierra and Nevada Counties, CA, Comment Period Ends: 5/8/2006, Contact: Jeff Leach 530-994-3401.

EIS No. 20060092, Final EIS, AFS, MT, Frenchtown Face Ecosystem Restoration Project, Maintenance and Improvement of Forest Health, Risk Reduction of Damage Insects and Disease, Lolo National Forest, Ninemile Ranger District, Missoula, MT, Wait Period Ends: 4/24/2006, Contact: Gary Edson 406-626-5201.

EIS No. 20060093, Draft EIS, AFS, CA, Commercial Pack Station and Pack Stock Outfitter/Guide Permit Issuance, Implementation, Special-Use-Permit to Twelve Pack Station and Two Outfitter/Guides, Inyo National Forest, CA, Comment Period Ends: 5/15/2006, Contact: Rich Hatfield 760-873-2452.

EIS No. 20060094, Final EIS, AFS, IN, Hoosier National Forest Land and Resource Management Plan, Implementation, Brown, Crawford, Dubois, Jackson, Lawrence, Martin, Orange, Perry Counties, IN, Wait Period Ends: 04/24/2006, Contact: Judi Perez 812-277-3593.

EIS No. 20060095, Final EIS, AFS, WA, Growden Dam Sherman Creek Restoration Project, and Forest Plan Amendment #28, Implementation, Colville National Forest, Ferry County, WA, Wait Period Ends: 4/24/2006, Contact: Karen Honeycutt 509-738-7734.

EIS No. 20060096, Draft EIS, BOP, NH, Berlin, Coos County, Proposed Federal Correctional Institution, Construction and Operation, City of Berlin, Coos County, NH, Comment Period Ends: 05/08/2006, Contact: Pamela J. Chandler 202-514-6470.

EIS No. 20060097, Final EIS, AFS, CO, Dry Fork Federal Coal Lease-by-Application (COC-67232), Leasing Additional Federal Coal Lands for Underground Coal Resource, Special-Use-Permits and U.S. Army COE Section 404 Permit, Grand Mesa, Uncompahgre and Gunnison National Forests, Gunnison County, CO, Wait Period Ends: 4/24/2006, Contact: Liane Mattson 970-874-6697.

Amended Notices

EIS No. 20060024, Draft Supplement, AFS, WI, McCaslin Project, Vegetation Management Activities that are Consistent with Direction in the Nicolet Forest Plan, New Information to Address Inadequate Disclosure of the Cumulative Effect Analysis for Six Animal and Eight Plant Species, Lakewood/Lasna District, Chequamegaon-Nicolet National Forest, Oconto and Forest Counties, WI, Comment Period Ends: 03/27/2006, Contact: Brian Quinn 715-762-5176.

Revision to FR Notice Published 1/27/2006: Comment Period.

Extended from 3/13/2006 to 3/27/2006.

Dated: March 21, 2006.
Robert W. Hargrove,
Director, NEPA Compliance Division, Office of Federal Activities.

[FR Doc. E6-4299 Filed 3-23-06; 8:45 am]

BILLING CODE 6560-50-P